DEPARTMENT OF TRANSPORTATION

Federal Aviation Administration

14 CFR Part 39

[Docket No. FAA-2010-0308; Directorate Identifier 2010-NE-17-AD; Amendment 39-16366; AD 2010-14-21]

RIN 2120-AA64

Airworthiness Directives; Thielert Aircraft Engines GmbH Model TAE 125-01 Reciprocating Engines

AGENCY: Federal Aviation Administration (FAA), DOT.

ACTION: Final rule.

SUMMARY: We are adopting a new airworthiness directive (AD) for the products listed above. This AD results from mandatory continuing airworthiness information (MCAI) issued by an aviation authority of another country to identify and correct an unsafe condition on an aviation product. The MCAI describes the unsafe condition as:

Service has shown that the small outlet of the blow-by oil separators, part number 02-7250-18100R1; 02-7250-18100R2; 02-7250-18100R3; 02-7250-18100R4; 02-7250-18300R1; 02-7250-18300R2; 02-7250-18300R3; 02-7250-18300R4; or 02-7250-18300R5, may cause a blow-by gas pressure increase inside the crankcase of the engine in excess of the oil seal design pressure limits. Leaking engine oil may adversely affect the gearbox clutch or the engine lubrication system. This condition, if not corrected, could lead to in-flight cases of engine power loss or ultimately, shutdown.

We are issuing this AD to prevent loss of engine power or uncommanded engine shutdown during flight due to excessive crankcase blow-by gas pressure.

DATES: This AD becomes effective August 17, 2010. The Director of the Federal Register approved the incorporation by reference of certain publications listed in this AD as of August 17, 2010.

ADDRESSES: The Docket Operations office is located at Docket Management Facility, U.S. Department of Transportation, 1200 New Jersey Avenue SE., West Building Ground Floor, Room W12-140, Washington, DC 20590-0001.

FOR FURTHER INFORMATION CONTACT: Tara Chaidez, Aerospace Engineer, Engine Certification Office, FAA, Engine and Propeller Directorate, 12 New England Executive Park, Burlington, MA 01803; e-mail: tara.chaidez@faa.gov; telephone (781) 238-7773; fax (781) 238-7199.

SUPPLEMENTARY INFORMATION:

Discussion

We issued a notice of proposed rulemaking (NPRM) to amend 14 CFR part 39 to include an AD that would apply to the specified products. That NPRM was published in the Federal Register on April 5, 2010 (75 FR 17084). That NPRM proposed to correct an unsafe condition for the specified products. The MCAI states that:

Service has shown that the small outlet of the blow-by separators, part number 02-7250-18100R1; 02-7250-18100R2; 02-7250-18100R3; 02-7250-18100R4; 02-7250-18300R1; 02-7250-18300R2; 02-7250-18300R3; 02-7250-18300R4; or 02-7250-18300R5, may cause a blow-by gas pressure increase inside the crankcase of the engine in excess of the oil seal design pressure limits. Leaking engine oil may adversely affect the gearbox clutch or the engine lubrication system. This condition, if not corrected, could lead to in-flight cases of engine power loss or ultimately, shutdown.

Comments

We gave the public the opportunity to participate in developing this AD. We received no comments on the NPRM or on the determination of the cost to the public.

Conclusion

We reviewed the available data and determined that air safety and the public interest require adopting the AD as proposed.

Costs of Compliance

Based on the service information, we estimate that this AD will affect about 250 Thielert Aircraft Engines GmbH model TAE 125-01 engines installed on airplanes of U.S. registry. We also estimate that it will take about 1.5 work-hours per engine to comply with this AD. The average labor rate is $85 per work-hour. Required parts will cost about $1,500 per engine. Based on these figures, we estimate the cost of the AD on U.S. operators to be $406,875.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (phone (800) 647-5527) is provided in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2010-14-21 Thielert Aircraft Engines GmbH: Amendment 39-16366. Docket No. FAA-2010-0308; Directorate Identifier 2010-NE-17-AD.

Effective Date

(a) This airworthiness directive (AD) becomes effective August 17, 2010.

Affected ADs

(b) None.

Applicability

(c) This AD applies to Thielert Aircraft Engines GmbH model TAE 125-01 reciprocating engines with any of the following part number blow-by oil separators installed:

Table 1—Part Numbers of Affected Blow-By Oil Separators
02-7250-18100R1 | 02-7250-18100R2 | 02-7250-18100R3
02-7250-18100R4 | 02-7250-18300R1 | 02-7250-18300R2
02-7250-18300R3 | 02-7250-18300R4 | 02-7250-18300R5

These engines are installed in, but not limited to, Diamond Aircraft Industries Model DA 40, Piper PA-28-161 (Supplemental Type Certificate (STC) No. SA03303AT), and Cessna 172 (STC No. SA01303WI) airplanes.

Reason

(d) Service has shown that the small outlet of the blow-by oil separators, part number 02-7250-18100R1; 02-7250-18100R2; 02-7250-18100R3; 02-7250-18100R4; 02-7250-18300R1; 02-7250-18300R2; 02-7250-18300R3; 02-7250-18300R4; or 02-7250-18300R5, may cause a blow-by gas pressure increase inside the crankcase of the engine in excess of the oil seal design pressure limits. Leaking engine oil may adversely affect the gearbox clutch or the engine lubrication system. This condition, if not corrected, could lead to in-flight cases of engine power loss or ultimately, shutdown.

This AD results from mandatory continuing airworthiness information (MCAI) issued by an aviation authority of another country to identify and correct an unsafe condition on an aviation product. We are issuing this AD to prevent loss of engine power or uncommanded engine shutdown during flight due to excessive crankcase blow-by gas pressure.

Actions and Compliance

(e) Unless already done, do the following actions:

(1) Remove the blow-by oil separators listed by part number in Table 1 of this AD within the next 110 flight hours after the effective date of this AD.

(2) Use the Measures section of Thielert Aircraft Engines GmbH Service Bulletin No. TM TAE 125-0019, Revision 1, dated March 5, 2009, to do the removal from service.

FAA AD Differences

(f) None.

Alternative Methods of Compliance (AMOCs)

(g) The Manager, Engine Certification Office, FAA, has the authority to approve AMOCs for this AD, if requested using the procedures found in 14 CFR 39.19.

Related Information

(h) Refer to European Aviation Safety Agency AD 2010-0020, dated February 8, 2010, for related information.

(i) Contact Tara Chaidez, Aerospace Engineer, Engine Certification Office, FAA, Engine and Propeller Directorate, 12 New England Executive Park, Burlington, MA 01803; e-mail: tara.chaidez@faa.gov; telephone (781) 238-7773; fax (781) 238-7199, for more information about this AD.

Material Incorporated by Reference

(j) You must use Thielert Aircraft Engines GmbH Service Bulletin No. TM TAE 125-0019, Revision 1, dated March 5, 2009, to do the actions required by this AD, unless the AD specifies otherwise.

(1) The Director of the Federal Register approved the incorporation by reference of this service information under 5 U.S.C. 552(a) and 1 CFR part 51.

(2) For service information identified in this AD, contact Thielert Aircraft Engines GmbH, Platanenstrasse 14 D-09350, Lichtenstein, Germany, telephone: +49-37204-696-0; fax: +49-37204-696- 55; e-mail: info@centurion-engines.com.

(3) You may review copies at the FAA, New England Region, 12 New England Executive Park, Burlington, MA; or at the National Archives and Records Administration (NARA). For information on the availability of this material at NARA, call (202) 741-6030, or go to: http://www.archives.gov/federal-register/cfr/ibr-locations.html.

Issued in Burlington, Massachusetts, on July 1, 2010.
Francis A. Favara,
Manager, Engine and Propeller Directorate, Aircraft Certification Service.

[FR Doc. 2010-16618 Filed 7-12-10; 8:45 am]

BILLING CODE 4910-13-P